NATIONAL SCIENCE FOUNDATION

Supplemental Draft Environmental Impact Statement (SDEIS)

AGENCY: National Science Foundation.

ACTION: Notice of Supplemental Draft Environmental Impact Statement (SDEIS).

SUMMARY: The National Science Foundation (NSF), through an award to the National Solar Observatory, plans to fund construction of the proposed Advanced Technology Solar Telescope (ATST) Project at the Kaleakalā High Altitude Observatory site on the Island of Maui, Hawai`i. The NSF has prepared a Supplemental Draft Environmental Impact Statement (SDEIS) for the proposed ATST Project. This SDEIS is a joint Federal and State of Hawai`i document prepared in compliance with the Federal National Environmental Policy Act (NEPA) and the State of Hawai`i Chapter 343, Hawai`i Revised Statutes. This SDEIS is also being prepared to evaluate the potential environmental impacts associated with issuing a National Park Service Special Use Permit application, pursuant to 36 CFR 5.6 to operate commercial vehicles on the Haleakalā National Park road during the construction and operation of the proposed ATST Project, if approved. The SDEIS is available at all Maui public libraries and on the Internet at: http://atst.nso.edu/.

DATES: Please submit comments during the 45-day public comment period beginning May 8, 2009, and ending on June 22, 2009.

ADDRESSES: Original comments should be sent to the applicant: Craig Foltz, Ph.D., ATST Program Manager, National Science Foundation, Division of Astronomical Sciences, 4201 Wilson Boulevard, Room 1045, Arlington, VA 22230, Telephone: 703-292-4909, Fax: 703-292-9034, E-mail: cfoltz@nsf.gov. Copies of comments should also be sent to:

1. Dept. of Health, Office of Environmental Quality Control, REF: ATST, 235 South Beretania Street, Room 702, Honolulu, HI 96813, Fax: 808-586-4186.

2. Mr. Mike Maberry, Associate Director, University of Hawai`i Institute for Astronomy, 34 Ohia Ku Street, Pukalani, HI 96768, Fax: 808-573-9557.

3. Charlie Fein, Ph.D., KC Environmental, Inc., P.O. Box 1208, Makawao, HI 96768, Fax: 808-573-7837, E-mail: charlie@kcenv.com.

FOR FURTHER INFORMATION CONTACT: Dr. Foltz at the address listed above.

SUPPLEMENTARY INFORMATION:

NEPA SDEIS Public Comment Hearings

Public Comment Period: The NSF welcomes Federal, State, and County agencies, and the public to participate in the 45-day comment period beginning May 8, 2009, and ending on June 22, 2009. Comments must be received or postmarked by June 22, 2009. Public comment hearings will take place, as follows:

1. Cameron Center Auditorium, 95 Mahalani Street, Wailuku, Maui, HI, June 3, 2009, Wednesday, 5 p.m. to 8 p.m.

2. Hannibal Tavares (Pukalani) Community Center, Pukalani Street, Room MHT #1 (downstairs), Pukalani, Maui, HI, June 4, 2009, Thursday, 7 p.m. to 10 p.m.

NHPA Consultation Meetings

Consultation meetings to solicit public input under Section 106 of the National Historic Preservation Act (NHPA) will be held on Maui by the National Science Foundation and Haleakalā National Park as follows:

1. June 8, 2009, Monday, 1 to 4 p.m., Kula Community Center, E. Lower Kula Road, Kula, Maui.

2. June 9, 2009, Tuesday, 10 a.m. to 1 p.m., Haiku Community Center, Hana Highway at Pilialoha Street, Haiku, Maui.

3. June 10, 2009, Wednesday, 3 to 6 p.m., Maui Community College, 310 W. Kaahumanu Avenue, Pilina Building—Multi-purpose Room, Kahului, Maui.

You are invited to participate in these meetings to provide feedback and comments on the area of potential effect, identification and evaluation of cultural, historic and archeological resources, and measures to avoid, minimize, and/or mitigate potential adverse impacts to these resources. For questions or information about the consultation meetings, call Elizabeth Gordon, Haleakalā National Park Cultural Resources Program Manager at (808) 572-4424 or e-mail at elizabeth_gordon@nps.gov. Information about the project is online at http://www.atst.nso.edu/library/36CFR800 and http://www.nps.gov/hale.

Dated: April 30, 2009.
Craig Foltz,
ATST Program Manager.

[FR Doc. E9-10561 Filed 5-7-09; 8:45 am]

BILLING CODE 7555-01-P